DEPARTMENT OF ENERGY

Office of Science; Climate Change Science Program Product Development Advisory Committee

AGENCY: Department of Energy.

ACTION: Notice of Open Meeting.

SUMMARY: This notice announces a meeting of the Climate Change Science Program Product Development Advisory Committee. Federal Advisory Committee Act (Pub. L. 92-463, 86 Stat. 770) requires that public notice of these meetings be announced in the Federal Register.

DATES: Thursday, August 17, 2006, 10 a.m. to 5 p.m.; Friday, August 18, 2006, 9 a.m. to 12:30 p.m.

ADDRESSES: American Geophysical Union, 2000 Florida Avenue, NW., Washington, DC 20009.

FOR FURTHER INFORMATION CONTACT: Dr. Anjuli S. Bamzai (301-903-0294; anjuli.bamzai@science.doe.gov) Designated Federal Officer, Climate Change Science Program Product Development Advisory Committee, U.S. Department of Energy, Office of Science, Office of Biological and Environmental Research, Climate Change Research Division, SC-23.3/Germantown Building, 1000 Independence Avenue, SW., Washington, DC 20585-1290. The most current information concerning this meeting can be found on the Web site: http://www.science.doe.gov/ober/cpdac/announcement.html

SUPPLEMENTARY INFORMATION: Purpose of the Meeting: To draft specific Climate Change Science Program (CCSP) Synthesis and Assessment Products at the request of the Department of Energy, in accordance with the CCSP Guidelines for Producing the CCSP Synthesis and Assessment Products related to climate models, scenarios of greenhouse gas emissions and concentrations, and development and application of integrated scenarios of greenhouse gas emissions.

Tentative Agenda

Thursday, August 17, and Friday, August 18, 2006:

• Comments from the Office of Science.

• Discussion of outline of report on climate models.

• Discussion of report on updated scenarios of greenhouse gas emissions and concentrations.

• Discussion of report on state-of-the-art review of the development and application of integrated scenarios of greenhouse gas emissions.

• Public comment (10 minute rule).

Public Participation: The day and a half meeting is open to the public. If you would like to file a written statement with the Committee, you may do so either before or after the meeting. If you would like to make oral statements regarding any of the items on the agenda, you should contact Anjuli Bamzai at the address or telephone number listed above. You must make your request for an oral statement at least five business days before the meeting. Reasonable provisions will be made to include the scheduled oral statements on the agenda. The Chairperson of the Committee will conduct the meeting to facilitate the orderly conduct of business. Public comment will follow the 10-minute rule.

Minutes: The minutes of this meeting will be available for public review and copying within 30 days at the Freedom of Information Public Reading Room, IE-190, Forrestal Building, 1000 Independence Avenue, SW., Washington, DC, between 9 a.m. and 4 p.m., Monday through Friday, except Federal holidays.

Issued in Washington, DC, on July 26, 2006.
Rachel M. Samuel,
Deputy Advisory Committee Management Officer.

[FR Doc. E6-12209 Filed 7-28-06; 8:45 am]

BILLING CODE 6450-01-P